DEPARTMENT OF THE INTERIOR

Bureau of Land Management

DEPARTMENT OF AGRICULTURE

Forest Service

[CA 668 -05-1783-PG_083A]

Notice of Call for Nominations for Appointment, Santa Rosa and San Jacinto Mountains National Monument Advisory Committee

AGENCIES: Bureau of Land Management, Interior; Forest Service, Agriculture.

ACTION: Notice of call for nominations for appointment or re-appointment of representatives, and an equal number of alternates, to occupy five positions on the Santa Rosa and San Jacinto Mountains National Monument Advisory Committee.

SUMMARY: This notice constitutes an open call to the public to submit nomination applications for each of the following positions on the Santa Rosa and San Jacinto Mountains National Monument Advisory Committee:

• Representative for the City of Palm Springs;

• Representative for a local developer or builder organization;

• Representative for the City of La Quinta;

• Representative for a local conservation organization; and

• Representative for the California Department of Fish and Game or the California Department of Parks and Recreation.

DATES: Nomination applications must be submitted to the address listed below no later than 90 days after the date of publication of this notice in the Federal Register.

ADDRESSES: Santa Rosa and San Jacinto Mountains National Monument, c/o Bureau of Land Management, Palm Springs-South Coast Field Office, Attn: National Monument Manager, Advisory Committee Nomination Application, P.O. Box 581260, North Palm Springs, California 92258-1260.

FOR FURTHER INFORMATION CONTACT: Frank Mowry, Writer-Editor, Santa Rosa and San Jacinto Mountains National Monument, telephone (760) 251-4822; facsimile message (760) 251-4899; e-mail ca_srsj_nm@ca.blm.gov.

SUPPLEMENTARY INFORMATION: In accordance with the Santa Rosa and San Jacinto Mountains National Monument Act of 2000 (Pub. L. 106-351), the Secretary of the Interior and the Secretary of Agriculture have jointly established an advisory committee for the Santa Rosa and San Jacinto Mountains National Monument under the provisions of the Federal Advisory Committee Act. The purpose of the National Monument Advisory Committee (MAC) is to advise the Secretaries with respect to implementation of the National Monument Management Plan.

The MAC holds public meetings several times throughout the year. The Designated Federal Officer (DFO), or his/her designee, may convene additional meetings as necessary. All MAC members are volunteers serving without pay, but will be reimbursed for travel and per diem expenses at the current rates for government employees in accordance with 5 U.S.C. 5703, when appropriate.

Appointments for individuals currently serving in the aforementioned positions will expire March 16, 2007. Members will be appointed to serve a 3-year term.

All applicants must be citizens of the United States. Members are appointed by the Secretary of the Interior with concurrence by the Secretary of Agriculture. Applicants must be qualified through education, training, knowledge, or experience to give informed advice regarding an industry, discipline, or interest specified in the Committee's charter; they must have demonstrated experience or knowledge of the geographical area in which the National Monument is located; and must have demonstrated a commitment to collaborate in seeking solutions to a wide spectrum of resource management issues.

There is no limit to the number of nomination applications which may be submitted for each open appointment. Current MAC appointees may submit an updated nomination application for re-appointment. Any individual may nominate himself or herself for appointment. Completed nomination applications should include letters of reference and/or recommendations from the represented interests or organizations, and any other information explaining the nominee's qualifications (e.g., resume, curriculum vitae).

Nomination application packages are available at the Bureau of Land Management Palm Springs-South Coast Field Office, 690 West Garnet Avenue, North Palm Springs, California; through the Santa Rosa and San Jacinto Mountains National Monument Web pages at http://www.blm.gov/ca/palmsprings/santarosa/mac-nominations.html; via telephone request at (760) 251-4800, or facsimile message at (760) 251-4899; by written request from the Santa Rosa and San Jacinto Mountains National Monument Manager at the following address: Santa Rosa and San Jacinto Mountains National Monument, c/o Bureau of Land Management, Palm Springs-South Coast Field Office, Attn: National Monument Manager, Advisory Committee Nomination Application Request, P.O. Box 581260, North Palm Springs, California 92258-1260; or through an e-mail request at ca_srsj_nm@ca.blm.gov.

Each application package includes forms from the U.S. Department of Agriculture and U.S. Department of the Interior. All submitted nomination applications become the property of the Department of the Interior, Bureau of Land Management, Santa Rosa and San Jacinto Mountains National Monument, and will not be returned. Nomination applications are good only for the current open public call for nominations.

Dated: March 3, 2006.
Gail Acheson,
Field Manager, Palm Springs-South Coast Field Office, Bureau of Land Management.
Dated: March 3, 2006.
Laurie Rosenthal,
District Ranger, San Jacinto Ranger District, San Bernardino National Forest, USDA Forest Service.
Dated: March 3, 2006.
James Foote,
Acting Monument Manager, Santa Rosa and San Jacinto Mountains, National Monument.

[FR Doc. 06-3844 Filed 4-21-06; 8:45 am]

BILLING CODE 4310-40-P